INTERNATIONAL TRADE COMMISSION

[Investigation No. 332-598]

Greenhouse Gas Emissions Intensities of the U.S. Steel and Aluminum Industries at the Product Level; Submission of Questionnaire and Information Collection Plan for Office of Management and Budget Review

AGENCY: United States International Trade Commission.

ACTION: Notice of submission of request for approval of a questionnaire and information collection to the Office of Management and Budget.

SUMMARY: The information requested by the questionnaire is for use by the Commission in connection with Investigation No. 332-598, Greenhouse Gas Emissions Intensities of the U.S. Steel and Aluminum Industries at the Product Level.

ADDRESSES: All Commission offices are located in the U.S. International Trade Commission Building, 500 E Street SW, Washington, DC. Persons with mobility impairments who will need special assistance in gaining access to the Commission should contact the Office of the Secretary at 202-205-2000.

FOR FURTHER INFORMATION CONTACT: The project leaders for this investigation are Caroline Peters, Shova KC, Alexander Melton, and Kristin Smyth. Please direct all questions and comments about this investigation to Shova KC at 202-780-0230 or via email at sa.emissions@usitc.gov. The Commission is not accepting paper correspondence for this investigation.

Comments about the proposal should be provided to the Office of Management and Budget, Office of Information and Regulatory Affairs through the Information Collection Review Dashboard at https://www.reginfo.gov. All comments should be specific, indicating which part of the questionnaire is objectionable, describing the concern in detail, and including specific suggested revisions or language changes. Copies of any comments should be provided electronically to the Commission's survey team via an email to sa.emissions@usitc.gov.

The public record for this investigation may be viewed on the Commission's electronic docket (EDIS) at https://edis.usitc.gov. General information concerning the Commission may be obtained by accessing its internet address (https://www.usitc.gov). Hearing-impaired individuals are advised that information on this matter can be obtained by contacting the TDD terminal on 202-205-1810.

SUPPLEMENTARY INFORMATION: The information requested by the questionnaire is for use by the Commission in connection with Investigation No. 332-598, Greenhouse Gas Emissions Intensities of the U.S. Steel and Aluminum Industries at the Product Level, instituted under the authority of section 332(g) of the Tariff Act of 1930 (19 U.S.C. 1332(g)). This investigation and report were requested by the United States Trade Representative in a letter dated June 5, 2023. This investigation was instituted on July 5, 2023, and the notice of investigation was published in the Federal Register on July 10, 2023 (88 FR 43633). The Commission will deliver its report to the Trade Representative by January 28, 2025.

As stated in the notice of investigation, the Trade Representative requested that the Commission generate estimates of the greenhouse gas (GHG) emissions intensities of a broad range of U.S. steel and aluminum products. The U.S.-produced individual products that are covered under this investigation are enumerated in attachment B to the request letter. GHG emissions intensities will be developed from the scope 1 and 2 emissions related to the production of covered steel and aluminum products and the scope 3 emissions associated with the material and resource inputs for the production of covered steel and aluminum products in 2022. These intensity estimates will be developed, to the extent practicable, for a set of specific product category groupings listed in attachment A of the request letter, though the Commission may present emissions intensities at further levels of disaggregation from these groupings. Because the information necessary to generate these estimates is not available in the requested specificity from governmental and other public sources, the Trade Representative directed the Commission to obtain much of such information through a survey. The survey aims to collect data on scope 1, 2, and 3 emissions, production, and parameters that will allow for the allocation of the emissions to the product categories. Responses will be used as inputs in the Commission's calculation of emissions intensities.

The Commission intends to submit the following draft information collection plan to OMB:

(1) Number of forms submitted: 2.

(2) Title of forms: Greenhouse Gas (GHG) Emissions Intensities Questionnaire: Company-Level and Greenhouse Gas (GHG) Emissions Intensities Questionnaire: Facility-Level.

(3) Type of request: New.

(4) Frequency of use: Industry questionnaire, single data gathering, scheduled for 2024.

(5) Description of respondents: Companies with U.S. facilities that produced steel and aluminum products in 2022 and those facilities.

(6) Estimated number of questionnaires to be distributed: 5,250 total (1,750 companies, 3,500 facilities).

(7) Estimated total number of hours to complete the questionnaire per respondent: 5 hours for the company-level questionnaire and 30 hours for the facility-level questionnaire for each facility.

(8) Information obtained from the questionnaires that qualifies as confidential business information will be so treated by the Commission and not disclosed in a manner that would reveal the individual operations of a business at the company or facility level.

Information about the investigation and other supplementary documents can be accessed on the USITC website at https://www.usitc.gov/saemissions.

By order of the Commission.
Issued: January 31, 2024.
Lisa Barton,
Secretary to the Commission.

[FR Doc. 2024-02232 Filed 2-2-24; 8:45 am]

BILLING CODE 7020-02-P